DEPARTMENT OF HEALTH AND HUMAN SERVICES

National Institutes of Health

National Institute of Mental Health; Notice of Meeting

Pursuant to section 10(a) of the Federal Advisory Committee Act, as amended (5 U.S.C. App.), notice is hereby given of a conference call of the Interagency Autism Coordinating Committee (IACC).

The IACC Full Committee will be having a conference call on Tuesday, February 28, 2012. The committee will receive an update on the status of the selection process for the new members of the IACC under CARA and will have an opportunity to discuss updates regarding agency and organization activities, as well as emerging issues in the autism community. This conference call will be accessible to the public through a call-in number and access code.

Name of Committee: Interagency Autism Coordinating Committee (IACC).

Type of meeting: Conference Call.

Date: February 28, 2012.

Time: 2 p.m. to 5 p.m. *Eastern Time*—Approximate end time.

Agenda: To discuss updates on the selection process for the new members of the IACC under CARA and current agency and organization activities, as well as emerging issues in the autism community.

Place: No in-person meeting; conference call only.

Conference Call: Dial: 888-831-4301, Access code: 6270429.

Cost: The conference call is free and open to the public.

Contact Person: Ms. Lina Perez, Office of Autism Research Coordination, National Institute of Mental Health, NIH, 6001 Executive Boulevard, NSC, Room 8185a, Rockville, MD 20852, Phone: (301) 443-6040, Email: IACCPublicInquiries@mail.nih.gov.

Please Note

The conference call will be accessible to the public through a call-in number and access code. Members of the public who participate using the conference call phone number will be able to listen to the meeting but will not be heard. If you experience any technical problems with the conference call, please email IACCTechSupport@acclaroresearch.com or call the IACC Technical Support Help Line at 443-680-0098.

Individuals who participate by using this electronic service and who need special assistance or other reasonable accommodations should submit a request to the Contact Person listed on this notice at least 7 days prior to the meeting.

This meeting is being published less than 15 days prior to the meeting due to the need to update the committee on the status of the IACC member selection process and to discuss emerging issues in the autism community.

Schedule subject to change.

Information about the IACC and a registration link for this meeting are available on the Web site: www.iacc.hhs.gov.

Dated: February 10, 2012.
Jennifer S. Spaeth,
Director, Office of Federal Advisory Committee Policy.

[FR Doc. 2012-3786 Filed 2-16-12; 8:45 am]

BILLING CODE 4140-01-P